DEPARTMENT OF DEFENSE

Department of the Navy

Board of Visitors, Marine Corps University; Notice of Federal Advisory Committee Meeting

AGENCY: Department of the Navy (DoN), Department of Defense (DoD).

ACTION: Notice of open meeting.

SUMMARY: The Board of Visitors of the Marine Corps University (BOV MCU) will meet to review, develop and provide recommendations on all aspects of the academic and administrative policies of the University; examine all aspects of professional military education operations; and provide such oversight and advice, as is necessary, to facilitate high educational standards and cost-effective operations. The Board will be focusing primarily on the internal procedures of Marine Corps University.

DATES: The meeting will be held on Tuesday, March 26, 2024, from 8:00 a.m. to 4:30 p.m. and Wednesday, March 27, 2024, from 08:30 a.m. to 11:00 a.m. Eastern Standard Time.

ADDRESSES: The meeting will be held at Marine Corps University, Quantico Base, VA 22134. All sessions of the meeting will be open to the public via Microsoft Teams:

https://teams.microsoft.com/l/meetup-join/19%3ameeting_ZGM4N2ZlMjktZTA4My00ZGRhLWExMzMtZWExM2Q5ZWNiMDRh%40thread.v2/0?context=%7b%22Tid%22%3a%2294e5a9ba-bbdc-4274-843d-164a71fd8ad3%22%2c%22Oid%22%3a%2298226ead-f252-4ec9-be22-f1e63a4979eb%22%7d

Meeting ID: 271 429 125 705

Passcode: Pi9auH

Or call in (audio only): +1 323-792-6328, United States, Los Angeles

Phone Conference ID: 505 125 129#

FOR FURTHER INFORMATION CONTACT:

Dr. Kim Florich, Alternate Designated Federal Officer, Marine Corps University Board of Visitors, 2076 South Street, Quantico, Virginia 22134, Telephone number 703-432-4837.

SUPPLEMENTARY INFORMATION:

Written Comments and Statements: Pursuant to section 10(a)(3) of the FACA and 41 CFR 102-3.105(j) and 102-3.140, interested persons may submit a written statement for consideration at any time, but should be received by the Designated Federal Officer at least 1 business day prior to the meeting date so that the comments may be made available to the Board for their consideration prior to the meeting. Written statements should be submitted via email to: Kimberly.florich@usmcu.edu. Please note that since the Board operates under the provisions of the FACA, as amended, all submitted comments and public presentations may be treated as public documents and may be made available for public inspection, including, but not limited to, being posted on the board website.

Dated: February 7, 2024.
J.E. Koningisor
Lieutenant Commander, Judge Advocate General's Corps, U.S. Navy, Federal Register Liaison Officer.

[FR Doc. 2024-02826 Filed 2-9-24; 8:45 am]

BILLING CODE 3810-FF-P